ENVIRONMENTAL PROTECTION AGENCY

40 CFR Part 52

[EPA-R09-OAR-2015-0083, EPA-R09-OAR-2021-0773, EPA-R09-OAR-2022-0306, and EPA-R09-OAR-2023-0479; FRL-12172-01-R9]

Air Plan Approvals; Arizona; California; Correcting Amendments

AGENCY: Environmental Protection Agency (EPA).

ACTION: Correcting amendments.

SUMMARY: On various dates, the Environmental Protection Agency (EPA) published final rules in the Federal Register approving certain revisions to the Arizona State Implementation Plan (SIP) and the California SIP. In those final rules, inadvertent errors in the amendatory instructions resulted in inaccuracies in the regulatory text codifying the final actions into the Code of Federal Regulations (CFR). This document corrects the errors in the regulatory text for those final rules.

DATES: These correcting amendments are effective October 11, 2024.

ADDRESSES: The EPA has established dockets for this action under Docket No. EPA-R09-OAR-2015-0083, EPA-R09-OAR-2021-0773, EPA-R09-OAR-2022-0306, and EPA-R09-OAR-2023-0479. All documents in the dockets are listed on the https://www.regulations.gov website. Although listed in an index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Mae Wang, EPA Region IX, 75 Hawthorne Street, San Francisco, CA 94105; phone: (415) 947-4137; email: wang.mae@epa.gov.

SUPPLEMENTARY INFORMATION: This action corrects regulatory text errors resulting from inadvertent errors in the amendatory instructions in final rulemakings affecting 40 CFR part 52. This action does not change any final action taken by the EPA in a previously published final rule. This action merely corrects regulatory text to properly codify the EPA's previously published final rulemakings. An explanation of each correction is listed below.

On March 27, 2015 (80 FR 16289), the EPA published a direct final rule that, among other actions, approved Ventura County Air Pollution Control District (APCD) Rule 74.31, “Metalworking Fluids and Direct-Contact Lubricants,” adopted on November 12, 2013, as a revision to the California SIP. However, there was a typographic error in the amendatory instructions. The instructions for adding paragraph 52.220(c)(441)(i)(C)(2) inadvertently omitted the rule number from the text to be added. The EPA is correcting the text for paragraph 52.220(c)(441)(i)(C)(2) in this action.

On September 28, 2022 (87 FR 58729), the EPA published a final rule approving four permitting rules submitted as a revision to the San Diego County APCD portion of the California SIP.¹ The revision concerned San Diego APCD Rule 11, “Exemptions From Rule 10 Permit Requirements,” Rule 20.1, “New Source Review—General Provisions,” Rule 20.3, “New Source Review—Major Stationary Sources and PSD Stationary Sources,” and Rule 20.4, “New Source Review—Portable Emission Units.” However, the text of the newly added paragraphs to codify the replacement of the previously-approved versions of these rules inadvertently listed the incorrect adoption dates for the replaced rules. In this action, the EPA is correcting the rule adoption dates appearing in 52.220(c)(488)(i)(A)(6), (c)(539)(i)(A)(5), (c)(539)(i)(A)(6), and (c)(539)(i)(A)(7).

¹ On October 27, 2022 (87 FR 65015), the EPA published a correcting amendment to correct the amendatory instructions appearing in the September 28, 2022 final rule for codifying the replacement of the previously-approved versions of Rule 20.1, Rule 20.3. and Rule 20.4. The September 28, 2022 final rule had listed the incorrect paragraphs for the previously-approved versions of these rules and those corrections were made in the October 27, 2022 action.

On February 9, 2024 (89 FR 8999), the EPA published a final rule approving a revision to the California Air Resources Board (CARB) portion of the California SIP. This revision concerned regulations and a certification procedure for certification of vapor recovery systems for gasoline cargo tanks. However, there was a typographic error in the amendatory instructions for codifying the CARB regulation and the certification procedure. The date of the submittal letter listed in the corresponding entries for this revision in 40 CFR 52.220a(c) table 1 and table 2 should have been September 8, 2023, rather than September 21, 2023. The EPA is correcting this date in this action.

On April 14, 2022 (87 FR 22135), the EPA published a final rule that, among other actions, approved Maricopa County Ordinance P-26, “Residential Burning Restrictions,” revised October 23, 2019, as a revision to the Maricopa County portion of the Arizona SIP. However, the amendatory instructions erroneously added an entry for Ordinance P-26 to table 4 of 40 CFR 52.120(c), rather than replacing the previously-approved entry for Maricopa County Ordinance P-26 in table 6 of 40 CFR 52.120(c). The EPA is correcting this error in this action.

The EPA has determined that this action falls under the “good cause” exemption in section 553(b)(B) of the Administrative Procedure Act (APA) which, upon finding “good cause,” authorizes agencies to dispense with public participation where public notice and comment procedures are impracticable, unnecessary, or contrary to the public interest. Public notice and comment for this action is unnecessary because the underlying rules for which these correcting amendments have been prepared were already subject to 30-day comment periods. Further, this action is consistent with the purposes and rationales of the final rules for which inaccurate amendatory instructions are being corrected herein. Because this action does not change the EPA's analyses or overall actions, no purpose would be served by additional public notice and comment. Consequently, additional public notice and comment are unnecessary.

The EPA also finds that there is good cause under APA section 553(d)(3) for these corrections to become effective on the date of publication of this action. Section 553(d)(3) of the APA allows an effective date of less than 30 days after publication “as otherwise provided by the agency for good cause found and published with the rule.” 5 U.S.C. 553(d)(3). The purpose of the 30-day waiting period prescribed in APA section 553(d)(3) is to give affected parties a reasonable time to adjust their behavior and prepare before the final rule takes effect. This rule does not create any new regulatory requirements such that affected parties would need time to prepare before the rule takes effect. This action merely corrects inaccurate amendatory instructions in previous rulemakings. For these reasons, the EPA finds good cause under APA section 553(d)(3) for these corrections to become effective on the date of publication of this action.

This action is subject to the Congressional Review Act (CRA), and the EPA will submit a rule report to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, the EPA has made such a good cause finding, including the reasons therefore, for this action to become effective on the date of publication. This action is not a “major rule” as defined by 5 U.S.C. 804(2).

List of Subjects in 40 CFR Part 52

Environmental protection, Air pollution control, Incorporation by reference, Intergovernmental relations, Nitrogen oxides, Ozone, Particulate matter, Reporting and recordkeeping requirements, Volatile organic compounds.

Dated: October 2, 2024.
Martha Guzman Aceves,
Regional Administrator, Region IX.

Accordingly, the Environmental Protection Agency is correcting 40 CFR part 52 by making the following correcting amendments:

PART 52—APPROVAL AND PROMULGATION OF IMPLEMENTATION PLANS

1. The authority citation for part 52 continues to read as follows:

Authority: 42 U.S.C. 7401 et seq.

Subpart D—Arizona

2. In § 52.120, amend paragraph (c) by:

a. Removing the subheading for “Maricopa County Ordinances” and the entry for “Ordinance P-26” in table 4, under the heading “Post-July 1988 Rule Codification,”; and

b. Revising the entry for “Maricopa County Ordinance P-26” in table 6.

The revision reads as follows:

§ 52.120 Identification of plan.

* * * * *

(c) * * *

Table 6—EPA-Approved Ordinances Adopted by Maricopa County and Other Local Jurisdictions Within Maricopa County
County citation | Title/subject | State effective date | EPA approval date | Additional explanation
Maricopa County Ordinance P-26 | Residential Burning Restrictions | October 23, 2019 | April 14, 2022, 87 FR 22135 | Submitted on November 20, 2019.
* * * * * * *

* * * * *

Subpart F—California

3. Section 52.220 is amended by revising paragraphs (c)(441)(i)(C)(2); (c)(488)(i)(A)(6); (c)(539)(i)(A)(5), (6); and (7).

The revisions read as follows:

§ 52.220 Identification of plan—in part.

* * * * *

(c) * * *

(441) * * *

(i) * * *

(C) * * *

(2) Rule 74.31, “Metalworking Fluids and Direct-Contact Lubricants,” adopted on November 12, 2013.

* * * * *

(488) * * *

(i) * * *

(A) * * *

(6) Previously approved on October 4, 2018, in paragraph (c)(488)(i)(A)(3) of this section and now deleted with replacement in paragraph (c)(557)(i)(B)(1) of this section: Rule 11, “Exemptions from Rule 10 Permit Requirements,” revision adopted on May 11, 2016.

* * * * *

(539) * * *

(i) * * *

(A) * * *

(5) Previously approved on September 16, 2020, in paragraph (c)(539)(i)(A)(1) of this section and now deleted with replacement in paragraph (c)(588)(i)(A)(1) of this section: Rule 20.1, “New Source Review—General Provisions,” revision adopted on June 26, 2019.

(6) Previously approved on September 16, 2020, in paragraph (c)(539)(i)(A)(3) of this section and now deleted with replacement in paragraph (c)(588)(i)(A)(2) of this section: Rule 20.3, “New Source Review—Major Stationary Sources and PSD Stationary Sources” (except paragraphs (d)(1)(vi), (d)(2)(i)(B), (d)(2)(v), (d)(2)(vi)(B) and (d)(3)), revision adopted on June 26, 2019.

(7) Previously approved on September 16, 2020, in paragraph (c)(539)(i)(A)(4) of this section and now deleted with replacement in paragraph (c)(588)(i)(A)(3), of this section: Rule 20.4, “New Source Review—Portable Emission Units” (except paragraphs (b)(2), (b)(3), (d)(1)(iii), (d)(2)(i)(B), (d)(2)(iv), (d)(2)(v)(B), (d)(3) and (d)(5)), revision adopted on June 26, 2019.

* * * * *

4. In § 52.220a, amend paragraph (c) by:

a. Revising the entry for “94014” in table 1, under the subheading “Title 17 (Public Health), Division 3 (Air Resources), Chapter 1 (Air Resources Board); Subchapter 8 (Compliance with Nonvehicular Emissions Standards); Article 1 (Vapor Recovery Systems in Gasoline Marketing Operations)”; and

b. Revising the entry for “Certification Procedure CP-204 Certification Procedure for Vapor Recovery Systems of Cargo Tanks” in table 2.

The revisions read as follows:

§ 52.220a Identification of plan—in part.

* * * * *

(c) * * *

Table 1—EPA-Approved Statutes and State Regulations ¹
State citation | Title/subject | State effective date | EPA approval date | Additional explanation
* * * * * * *
California Code of Regulations
* * * * * * *
Title 17 (Public Health), Division 3 (Air Resources), Chapter 1 (Air Resources Board); Subchapter 8 (Compliance with Nonvehicular Emissions Standards); Article 1 (Vapor Recovery Systems in Gasoline Marketing Operations)
94014 | Certification of Vapor Recovery Systems for Cargo Tanks | 7/12/2023 | 2/9/2024, 89 FR 8999 | Submitted on September 13, 2023, as an attachment to a letter dated September 8, 2023.
* * * * * * *
¹ Table 1 lists EPA-approved California statutes and regulations incorporated by reference in the applicable SIP. Table 2 of paragraph (c) lists approved California test procedures, test methods and specifications that are cited in certain regulations listed in Table 1. Approved California statutes that are nonregulatory or quasi-regulatory are listed in paragraph (e).

Table 2—EPA-Approved California Test Procedures, Test Methods, and Specifications
Title/subject | State effective date | EPA approval date | Additional explanation
* * * * * * *
Certification Procedure CP-204 Certification Procedure for Vapor Recovery Systems of Cargo Tanks | 7/12/2023 | 2/9/2024, 89 FR 8999 | Submitted on September 13, 2023, as an attachment to a letter dated September 8, 2023.
* * * * * * *

* * * * *

[FR Doc. 2024-23423 Filed 10-10-24; 8:45 am]

BILLING CODE 6560-50-P